DEPARTMENT OF ENERGY

Federal Energy Regulatory Commission

Combined Notice of Filings #1

Take notice that the Commission received the following exempt wholesale generator filings:

Docket Numbers: EG23-85-000.

Applicants: Sweetland Wind Farm, LLC.

Description: Sweetland Wind Farm, LLC submits Notice of Self-Certification of Exempt Wholesale Generator Status.

Filed Date: 2/24/23.

Accession Number: 20230224-5145.

Comment Date: 5 p.m. ET 3/17/23.

Take notice that the Commission received the following electric rate filings:

Docket Numbers: ER23-495-002.

Applicants: AES CE Solutions, LLC.

Description: Tariff Amendment: AES CE Solutions, LLC MBR Tariff to be effective 11/24/2022.

Filed Date: 2/24/23.

Accession Number: 20230224-5122.

Comment Date: 5 p.m. ET 3/17/23.

Docket Numbers: ER23-757-001.

Applicants: PJM Interconnection, L.L.C.

Description: Tariff Amendment: Amendment of Amended ISA, SA No. 5422, Queue No. AC1-158 in Docket No. ER23-757 to be effective 3/1/2023.

Filed Date: 2/24/23.

Accession Number: 20230224-5013.

Comment Date: 5 p.m. ET 3/17/23.

Docket Numbers: ER23-1173-000.

Applicants: Midcontinent Independent System Operator, Inc.

Description: § 205(d) Rate Filing: 2023-02-24_Schedules 24 and 24A Cost Recovery to be effective 4/26/2023.

Filed Date: 2/24/23.

Accession Number: 20230224-5002.

Comment Date: 5 p.m. ET 3/17/23.

Docket Numbers: ER23-1174-000.

Applicants: Midcontinent Independent System Operator, Inc.

Description: § 205(d) Rate Filing: 2023-02-24_SA 1756 METC-Consumers Energy 16th Rev GIA (G479B) to be effective 2/1/2023.

Filed Date: 2/24/23.

Accession Number: 20230224-5003.

Comment Date: 5 p.m. ET 3/17/23.

Docket Numbers: ER23-1175-000.

Applicants: Dominion Energy South Carolina, Inc.

Description: Tariff Amendment: Jasper Provisional LGIA Notice of Cancellation to be effective 2/7/2023.

Filed Date: 2/24/23.

Accession Number: 20230224-5018.

Comment Date: 5 p.m. ET 3/17/23.

Docket Numbers: ER23-1176-000.

Applicants: PJM Interconnection, L.L.C.

Description: § 205(d) Rate Filing: First Revised ISA, Service Agreement No. 6248; QUeue No. AE2-206/AF1-078 to be effective 1/18/2023.

Filed Date: 2/24/23.

Accession Number: 20230224-5077.

Comment Date: 5 p.m. ET 3/17/23.

Docket Numbers: ER23-1177-000.

Applicants: Arizona Public Service Company.

Description: § 205(d) Rate Filing: Rate Schedule No. 217, Exhibit B.PAD-LIB to be effective 4/28/2023.

Filed Date: 2/24/23.

Accession Number: 20230224-5082.

Comment Date: 5 p.m. ET 3/17/23.

Docket Numbers: ER23-1178-000.

Applicants: Alabama Power Company, Georgia Power Company, Mississippi Power Company.

Description: Tariff Amendment: Alabama Power Company submits tariff filing per 35.15: SE Solar II (Fayette Solar) LGIA Termination Filing to be effective 2/3/2023.

Filed Date: 2/24/23.

Accession Number: 20230224-5093.

Comment Date: 5 p.m. ET 3/17/23.

Docket Numbers: ER23-1179-000.

Applicants: HIKO Energy, LLC.

Description: Notice of Cancellation of Market Based Rate Tariff of HIKO Energy, LLC.

Filed Date: 2/24/23.

Accession Number: 20230224-5156.

Comment Date: 5 p.m. ET 3/17/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 24, 2023.
Kimberly D. Bose,
Secretary.

[FR Doc. 2023-04313 Filed 3-1-23; 8:45 am]

BILLING CODE 6717-01-P